ENVIRONMENTAL PROTECTION AGENCY

[EPA-HQ-OAR-16-000-4157; FRL-9942-62-OAR]

Inventory of U.S. Greenhouse Gas Emissions and Sinks: 1990-2014

AGENCY: Environmental Protection Agency (EPA).

ACTION: Notice of document availability and request for comments.

SUMMARY: The Draft Inventory of U.S. Greenhouse Gas Emissions and Sinks: 1990-2014 is available for public review.

DATES: To ensure your comments are considered for the final version of the document, please submit your comments by March 23, 2016.

ADDRESSES: You may submit your comments by any of the following methods:

• Mail: Leif Hockstad, Climate Change Division, Office of Atmospheric Programs (MC-6207S), Environmental Protection Agency, 1200 Pennsylvania Ave. NW., Washington, DC 20460.

• Email: hockstad.leif@epa.gov.

• Fax: (202) 566-2203.

The draft report can be obtained by visiting the U.S. EPA's Climate Change Site at: http://www3.epa.gov/climatechange/ghgemissions/usinventoryreport.html.

FOR FURTHER INFORMATION CONTACT: Mr. Leif Hockstad, Environmental Protection Agency, Office of Air and Radiation, Office of Atmospheric Programs, Climate Change Division; telephone number: (202) 343-9432; email address: hockstad.leif@epa.gov.

SUPPLEMENTARY INFORMATION: The Draft Inventory of U.S. Greenhouse Gas Emissions and Sinks: 1990-2014 is being made available for a thirty-day public review and comment period. Annual U.S. emissions for the period from 1990 through 2014 are summarized and presented by source category and sector. The inventory contains estimates of carbon dioxide (CO2), methane (CH4), nitrous oxide (N2O), hydrofluorocarbons (HFC), perfluorocarbons (PFC), sulfur hexafluoride (SF6), and nitrogen trifluoride (NF3) emissions. The inventory also includes estimates of carbon fluxes in U.S. agricultural and forest lands. The technical approach used in this report to estimate emissions and sinks for greenhouse gases is consistent with the methodologies recommended by the Intergovernmental Panel on Climate Change (IPCC), and reported in a format consistent with the United Nations Framework Convention on Climate Change (UNFCCC) reporting guidelines. The Inventory of U.S. Greenhouse Gas Emissions and Sinks: 1990-2014 is the latest in a series of annual U.S. submissions to the Secretariat of the UNFCCC. The EPA requests recommendations for improving the overall quality of the inventory report to be finalized in April 2016, as well as subsequent inventory reports.

Dated: February 11, 2016.
Sarah Dunham,
Director, Office of Atmospheric Programs.

[FR Doc. 2016-03488 Filed 2-19-16; 8:45 am]

BILLING CODE 6560-50-P